OFFICE OF PERSONNEL MANAGEMENT

[OMB Control No. 3206-0173; Form SF 3102]

Submission for OMB Review; Request for Extension, Without Change of a Currently Approved Information Collection

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for extension, without change, of a currently approved information collection. This information collection, “Designation of Beneficiary (FERS)” (OMB Control No. 3206-0173; SF 3102), is used by an employee or an annuitant covered under the Federal Employees Retirement System to designate a beneficiary to receive any lump sum due in the event of his/her death.

Approximately 3,110 SF 3102 forms are completed annually. Each form takes approximately 15 minutes to complete. The annual estimated burden is 777.50 hours.

For copies of this proposal, contact Cyrus S. Benson by telephone at (202) 606-4808, by FAX (202) 606-0910 or by E-mail to Cyrus.Benson@opm.gov. Please include a mailing address with your request.

DATES: Comments on this proposal should be received within 30 calendar days from the date of this publication.

ADDRESSES: Send or deliver comments to—

James K. Freiert, Deputy Assistant Director, Retirement Services Program, Center for Retirement and Insurance Services, U.S. Office of Personnel Management, 1900 E Street, NW., Room 3305, Washington, DC 20415-3500 and John W. Barkhamer, OPM Desk Officer, Office of Information & Regulatory Affairs, Office of Management and Budget, New Executive Office Building, 725 17th Street, NW., Room 10235, Washington, DC 20503.

For Information Regarding Administrative Coordination Contact:Cyrus S. Benson, Team Leader, Publications Team, RIS Support Services/Support Group, U.S. Office of Personnel Management, 1900 E Street, NW-Room 4H28, Washington, DC 20415, (202) 606-0623.

U.S. Office of Personnel Management.
Kathie Ann Whipple,
Acting Director.

[FR Doc. E9-4917 Filed 3-6-09; 8:45 am]

BILLING CODE 6325-38-P